DEPARTMENT OF HEALTH AND HUMAN SERVICES

Centers for Disease Control and Prevention

[60Day-18-18XG; Docket No. CDC-2018-0034]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on a proposed information collection project titled “Evaluation of the third decade of the National Occupational Research Agenda (NORA) Council Effectiveness”. This is a survey to collect information from NORA council members and leaders about council activities and satisfaction with council functioning.

DATES: Written comments must be received on or before June 18, 2018.

ADDRESSES: You may submit comments, identified by Docket No. CDC-2018-0034 by any of the following methods:

• Federal eRulemaking Portal: Regulations.gov. Follow the instructions for submitting comments.

• Mail: Leroy A. Richardson, Information Collection Review Office, Centers for Disease Control and Prevention, 1600 Clifton Road NE, MS-D74, Atlanta, Georgia 30329.

Instructions: All submissions received must include the agency name and Docket Number. CDC will post, without change, all relevant comments to Regulations.gov.

Please note: Submit all Federal comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road, NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Evaluation of the third decade of the National Occupational Research Agenda (NORA) Council Effectiveness—New—National Institute for Occupational Safety and Health (NIOSH), Centers for Disease Control and Prevention (CDC).

Background and Brief Description

The National Institute for Occupational Safety and Health (NIOSH) is responsible for conducting research and making recommendations to prevent worker injury and illness, as authorized in Section 20(a)(1) of the Occupational Safety and Health Act (29 U.S.C. 669). In 1995-1996, NIOSH saw an opportunity to enhance its ability to accomplish its mission through partnerships that involved a broad national stakeholder base in occupational safety and health. With stakeholder input, NIOSH developed and launched a partnership program titled the National Occupational Research Agenda (NORA) in 1996. Participation in NORA includes stakeholders from universities, large and small businesses, professional societies, government agencies, and worker organizations. NORA runs in ten year cycles, with the first decade running 1996-2006, the second 2006-2016, and the third 2016-2026.

The structure of NORA has evolved over time, and now, in the third decade, it is organized into ten industry sectors based on major areas of the U.S. economy, and seven health and safety cross-sectors organized according to the major health and safety issues affecting the U.S. working population. The work of the sectors and cross-sectors is managed through a partnership structure of councils. Each of the 17 councils develops and maintains an agenda for the decade for its sector. The sector agendas become part of the national agenda for improvements in occupational safety and health through research and partnerships. Representing all stakeholders, the councils use an open process to set research objectives, share information, encourage partnerships, and promote improved workplace practices.

NIOSH seeks to request a 12-month Office of Management and Budget (OMB) approval to administer a survey to NORA council members and leaders. As the steward of NORA, it is NIOSH's responsibility to ensure that councils, which are central to the work of NORA, are operating well. Without this data collection, NIOSH's internal review of NORA would lack critical stakeholder input from its many non-Federal partners.

The target population is all current and former members and leaders of each of the 17 NORA councils in the third decade of NORA. The web-based survey requests information on council activities, the effectiveness of the council and its processes, and suggestions for improving the effectiveness and impact of NORA councils in the future. Without this data collection, NIOSH's internal management review of NORA would lack critical stakeholder input from its many non-Federal partners.

NIOSH has developed a 17-item survey and will send to approximately 425 non-Federal NORA Sector council members or leaders. NIOSH estimates that it will take 12 minutes to complete the survey.

There are no costs to respondents other than their time. The total estimated time burden is 85 hours.

Estimated Annualized Burden Hours
Type of respondents | Form name | Number of respondents | Number of responses per respondent | Average burden per response (in hours) | Total burden (in hours)
Non-federal NORA Council members or leaders | Council Survey | 425 | 1 | 12/60 | 85
Total |  |  |  |  | 85

Leroy A. Richardson,
Chief, Information Collection Review Office, Office of Scientific Integrity, Office of the Associate Director for Science, Office of the Director, Centers for Disease Control and Prevention.

[FR Doc. 2018-08147 Filed 4-18-18; 8:45 am]

BILLING CODE 4163-18-P